DEPARTMENT OF DEFENSE

Office of the Secretary

Meeting of the Defense Policy Board

AGENCY: Defense Policy Board, Department of Defense.

ACTION: Notice.

SUMMARY: The Defense Policy Board will meet in closed session on March 15, 2011 from 0800 hrs until 1800 hrs and on March 16, 2011 from 0800 hrs until 1030 hrs at the Pentagon.

The purpose of the meeting is to provide the Secretary of Defense, Deputy Secretary of Defense and Under Secretary of Defense for Policy with independent, informed advice on major matters of defense policy. The Board will hold classified discussions on national security matters.

In accordance with Section 10(d) of the Federal Advisory Committee Act, Public Law 92-463, as amended [5 U.S.C. App II (1982)], it has been determined that this meeting concerns matters listed in 5 U.S.C. 552B (c)(1)(1982), and that accordingly this meeting will be closed to the public.

FOR FURTHER INFORMATION CONTACT: Ms. Ann Hansen, 703-571-9232.

Dated: February 25, 2011.
Morgan F. Park
Alternate OSD Federal Register Liaison Officer, Department of Defense.

[FR Doc. 2011-4864 Filed 3-3-11; 8:45 am]

BILLING CODE 5001-06-P